DEPARTMENT OF COMMERCE

[I.D. 122700MC]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Project Design for Research, Exploration, or Salvage of the R.M.S. Titanic and/or Its Artifacts.

Form Number(s): None.

OMB Approval Number: None.

Type of Request: Regular submission.

Burden Hours: 48.

Number of Respondents: 2.

Average Hours Per Response: 12.

Needs and Uses: In order to protect the R.M.S. Titanic and to conserve artifacts recovered, NOAA has issued voluntary guidelines for documenting scientific and professional approaches and methodologies to be used during research and exploration. Project designs submitted by respondents (e.g. researchers, salvers, etc.) for advice will be peer-reviewed to ensure protection and conservation. Reports of activities are also requested.

Affected Public: Not-for-profit institutions, business or other for-profit organizations, Federal government.

Frequency: On occasion.

Respondent's Obligation: Voluntary.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer,Room 10202, New Executive Office Building, Washington, DC 20503.

Dated: December 22, 2000.
Madeleine Clayton,
Departmental Forms Clearance Officer, Office of the Chief Information Officer.

[FR Doc. 00-33447 Filed 12-29-00; 8:45 am]

BILLING CODE 3510-08-S